DEPARTMENT OF HEALTH AND HUMAN SERVICES

Health Resources and Services Administration

[OMB No. 0915-0298—Revision]

Agency Information Collection Activities: Proposed Collection: Public Comment Request; Maternal and Child Health Bureau Performance Measures for Discretionary Grant Information System

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 22, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Maternal and Child Health Bureau (MCHB) Performance Measures for Discretionary Grant Information System (DGIS), OMB No. 0915-0298—Revision.

Abstract: Approval from OMB is sought to implement minor revisions to the MCHB Performance Measures for DGIS. Most of these measures are specific to certain types of programs and are not required of all grantees. The measures are categorized by domain (Adolescent Health, Capacity Building, Child Health, Children with Special Health Care Needs, Lifecourse/Crosscutting, Maternal/Women Health, and Perinatal/Infant Health), in addition to some program-specific measures. Grant programs are assigned domains based on their activities and individual grantees respond to only a limited number of performance measures that are relevant to their specific program.

Need and Proposed Use of the Information: The performance data collected through the DGIS serves several purposes, including grantee monitoring, program planning, performance reporting, and the ability to demonstrate alignment between MCHB discretionary programs and the Title V MCH Services Block Grant program. HRSA is making the following changes to the current OMB package for MCHB DGIS to more closely align data collection forms with current program activities:

Removing the following existing forms: Core 1 (Grant Impact), Capacity Building 2 (Technical Assistance), Capacity Building 7 (Direct Annual Access to Maternal and Child Health (MCH) Data), Training Form 13 (Diverse Adolescent Involvement (LEAH-specific)), Financial Form 2 (Project Funding Profile), and Financial Form 4 (Project Budget and Expenditures);

Adding the following new form: Training Form 14 (Teleconsultation and Training for Mental and Behavioral Health) and Leadership, Education, and Advancement in Undergraduate Pathways Training Program Trainee Information Form;

Revising the following existing forms: F2F (Family to Family Form 1), Financial Form 1 (MCHB Project Budget Details), Financial Form 4 (new name: MCH Discretionary Grant Project Abstract), and MCH Training Program Data Forms;

Revising and Renumbering the following forms: Core 3 (Health Equity) will become the new Core 1 (Health Equity), Financial Form 3 (Budget Details by Types of Individuals Served) will become the new Financial Form 2 (Budget Details by Types of Individuals Served), Financial Form 5 (Number of Individuals Served (Unduplicated)) will become the new Financial Form 3 (Number of Individuals Served (Unduplicated)), and Financial Form 6 (Project Abstract) will become the new Financial Form 4 (Project Abstract); and

Renumbering the following forms: Core 2 (Quality Improvement) will become the new Capacity Building 4 (Quality Improvement), Capacity Building 3 (Impact Measurement) will become the new Capacity Building 2 (Impact Measurement), Capacity Building 4 (Sustainability) will become the new Capacity Building 3 (Sustainability), and Training 14 (Medium-Term Trainees Skill and Knowledge (PPC-Specific)) will become the new Training 13 (Medium-Term Trainees Skill and Knowledge (PPC-Specific)).

Non-substantive revisions also include updates to terminology, goals, benchmark data sources, and significance sections included in the measures' detail sheets. A performance measure detail sheet defines and describes each performance measure. Forms and detail sheets showing the proposed revisions are available upon request.

This revision will facilitate more efficient and accurate reporting of information related to capacity building activities, financial and demographic data, and training activities.

Likely Respondents: The grantees for MCHB Discretionary Grant Programs.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form | Number of respondents | Responses per respondent | Total responses | Burden hours per response | Total burden hours
Grant Report | 700 | 1 | 700 | 36 | 25,200
Total | 700 |  | 700 |  | 25,200

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-01114 Filed 1-20-22; 8:45 am]

BILLING CODE 4165-15-P